FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicants:

BJ's Cargo Express, Corp, 4470 Broadway, New York, NY 10040, Officer: Benjamin Jimenez, Director, (Qualifying Individual).

Sun Ocean Logistics Corp, 5250 W. Century Blvd., Los Angeles, CA 90045, Officer: Christine Y. Lee, President, (Qualifying Individual).

Fama Shipping, Inc., 1969 Amsterdam Ave., New York, NY 10032, Officer: Jose N. Guillen, Vice President, (Qualifying Individual).

Ireh Logistic Services Inc., 488 E. Ocean Blvd., Long Beach, CA 90802, Officer: Sunny Kano, CEO, (Qualifying Individual).

LLK Logistics USA, Inc., 175-18 147 Avenue, Jamaica, NY 11434, Officers: Ozen Nerkis, Secretary, (Qualifying Individual), Metin Nerkis, President.

OK To Ship, Inc., 917 Hutchinson Ct., Brooklyn, NY 11223, Officer: Choua Mandil, President, (Qualifying Individual).

Nakamura Air Express (U.S.A.) Inc., dba Max (USA) Inc., 5343 W. Imperial Hwy., #100, Los Angeles, CA 90045, Officer: Shiro Kobayashi, Operating Officer, (Qualifying Individual).

Konoike Transport and Engineering (USA), Inc., 1420 Coil Avenue, Wilmington, CA 90744, Officer: Yutaka Urabe, President, (Qualifying Individual).

DB Shipping (USA) Inc., 148-36 Guy R. Brewer Blvd., Ste. 207, Jamaica, NY 11434, Officer: Liuaka Gerry Hong, Secretary, (Qualifying Individual).

Port Alliance Logistics Inc., 70 East Sunrise Highway, Ste. 607, Valley Stream, NY 11581, Officers: Shawn Mak, Treasurer, (Qualifying Individual), Huang Yu Lin, President.

Heneways U.S.A. Inc., 1400 Mittel Blvd., Wood Dale, IL 60191, Officer: Harold Leboyer, Vice President, (Qualifying Individual).

Titan Container Line Inc., 211 E. 43rd Street, #401, New York, NY 10017, Officer: Laurence Cohen, President, (Qualifying Individual).

A B Plant Shipping USA LLC, 15710 JFK Boulevard, Houston, TX 77032, Officers: Margaret J. Zimmer, V.P. Administration, (Qualifying Individual), Nancy C. Labrozzi, Secretary.

City Ocean International, Inc., 17890 Castleton Street, Ste. #205, City of Industry, CA 91748, Officer: Hui Hiuang, CEO, (Qualifying Individual).

Non-Vessel Operating Common Carrier and Ocean Freight Forwarder Transportation Intermediary Applicants:

Call Rapido, LLC, 9614 Pondwood Road, Boca Raton, FL 33428, Officers: Suramya T. Atapattu, Member, (Qualifying Individual).

UKO Logis Inc., 879 W. 190th Street, #290, Gardena, CA 90248, Officer: Jae Kim, CFO, (Qualifying Individual).

Total Transport Services Inc., 145 Hook Creek Blvd., Bldg. B6B, Valley Stream, NY 11581, Officer: Lawrence McCaffrey, Treasurer, (Qualifying Individual).

Atlantic Global LLC, 1250 Newark Turnpike, Kearny, NJ 07032, Officer: Jeff Lelchuk, Managing Member, (Qualifying Individual).

Cargo Control Inc., 210 N. Viginia Avenue, Massapequa, NY 11758, Officer: Anthony Paolino, Vice President, (Qualifying Individual).

K & M Shipping, Inc., 1237 S. Euclid Street, Anaheim, CA 92802, Officer: Murhaf Abobaker, President, (Qualifying Individual).

AKM International, LLC, 301 Varick Street, Jersey City, NJ 07302, Officer: Chun C. Lin, Member Manager, (Qualifying Individual).

Alps Logistics (USA), Inc., 1845 West 205th Street, Torrance, CA 90501, Officers: Katsuyuki Hosono, V. Pres. Sales & Opera, (Qualifying Individual), Hideo Yokoyama, President.

Sunship International Acquisitions Incorporated, 6815 W. 95th Street, Ste. #1, Oaklawn, IL 60453, Officer: Ylli Karagica, Vice President, (Qualifying Individual).

EPS Logistics, LLC dba EPS Freight Forwarding, 8258 NW 14th Street, Doral, FL 33126, Officer: Linda Amador, V.P. of Logistics, (Qualifying Individual).

Ridgeway International (USA) Inc., 1080 Military Turnpike, Plattsburgh, NY 12901, Officer: Shaun Gillilland, Director, (Qualifying Individual).

President Marine Inc., 1522 S. Loop West, Houston, TX 77054, Officers: Mujahed H. Odeh, Owner, (Qualifying Individual), Brenda D. Heye, Secretary.

ACME Freight Services Corp., 550 E. Carson Plaza Drive, Carson, CA 90748, Officer: Shia-Shung Shih, President, (Qualifying Individual).

Ocean Star Logistics Inc., 200 South Garfield Ave., Ste. 108, Alhambra, CA 91801, Officer: Janet Li, President, (Qualifying Individual).

Ocean Freight Forwarder—Ocean Transportation Intermediary Applicants:

Planair USA Inc., 5 E. Glenolden Avenue, Glenolden, PA 19036, Officers: Akbari Liloma, Secretary, (Qualifying Individual), Chieke E. Ihejirika, President.

A.H. Carter & Associates, Inc., 25802 74th Avenue S., Kent, WA 98032, Officer: Kent W. Biden, Dir. Int'l. Operations, (Qualifying Individual).

Taggert International, Ltd., 1792 Red Oak Ct., Liberty, MO 64068, Officers: Sean K. Scarbrough, President, (Qualifying Individual), Elizabeth L. Scarbrough, Vice President.

Airpax, Inc. dba Airpax, 334 Ella Grasso Turnpike, Ste. 270, Windsor Locks, CT 06096, Officers: Joseph Rizzari, President, (Qualifying Individual), Daniela F. Rizzari, Secretary.

Merco Air & Ocean Cargo, Inc., 6 Fir Way, Cooper City, FL 33026, Officer: Sylvia R. Hummel, President, (Qualifying Individual).

Scanwell Logistics (LAX) Inc., 615 N. Nash Street, #202, El Segundo, CA 90245, Officer: Gino Lin, President, (Qualifying Individual).

Scanwell Logistics (CHI) Inc., 2455 Arthur Avenue, Elk Grove Village, IL 60007, Officer: Gino Lin, President, (Qualifying Individual).

Scanwell Logistics (NYC) Inc., 1995 Linden Blvd., Elmont, NY 11003, Officer: Gino Lin, President, (Qualifying Individual).

Agility Logistics Corp., 1251 E. Dyer Road, Ste. 200, Santa Ana, CA 92705, Officer: Robert J. Mockoviak, Sen. V. President, (Qualifying Individual).

Matt-Alex, Inc. dba Advanced International Services, 15112 Lee Road, #405, Humble, TX 77396, Officer: Thomas M. Gillespie, Vice President, (Qualifying Individual).

Dated: October 31, 2008.
Karen V. Gregory,
Secretary.

[FR Doc. E8-26401 Filed 11-4-08; 8:45 am]

BILLING CODE 6730-01-P